DEPARTMENT OF THE INTERIOR

National Park Service

36 CFR Part 13

[NPS-AKRO-22869; PPAKAKROZ5, PPMPRLE1Y.L00000]

RIN 1024-AE28

Alaska; Subsistence Collections

AGENCY: National Park Service, Interior.

ACTION: Final rule; delay of effective date.

SUMMARY: In accordance with a January 20, 2017, memorandum of the Chief of Staff for the White House, we, the National Park Service, are delaying the effective date of a rule we published on January 12, 2017.

DATES: The effective date of the rule that published on January 12, 2017, at 82 FR 3626, is delayed from February 13, 2017, to March 21, 2017.

FOR FURTHER INFORMATION CONTACT: Andee Sears, Regional Law Enforcement Specialist, Alaska Regional Office, 240 West 5th Ave., Anchorage, AK 99501. Phone (907) 644-3410. Email: AKR_Regulations@nps.gov.

SUPPLEMENTARY INFORMATION: On January 12, 2017, we published a rule to amend regulations for National Park System units in Alaska to allow qualified subsistence users to collect nonedible fish and wildlife parts and plants for creating handicrafts for barter and customary trade. The rule also clarifies that capturing, collecting or possessing living wildlife is generally prohibited and adopts restrictions on using human-produced foods to bait bears for subsistence uses. The rule was to be effective on February 13, 2017.

On January 20, 2017, the Chief of Staff for the White House issued a memorandum instructing Federal agencies to temporarily postpone the effective date for 60 days after January 20, 2017, of any regulations that have published in the Federal Register but not yet taken effect, for the purpose of “reviewing questions of fact, law, and policy they raise.” We are, therefore, delaying the effective date of our rule published on January 12, 2017, at 82 FR 3626 (see DATES, above) to allow sufficient time for review of the rule relative to national wildlife management policy.

To the extent that 5 U.S.C. 553 applies to this action, it is exempt from notice and comment because it constitutes a rule of procedure under 5 U.S.C. 553(b)(A). Alternatively, our implementation of this action without opportunity for public comment, effective immediately upon publication in the Federal Register, is based on the good cause exceptions in 5 U.S.C. 553(b)(B) and 553(d)(3). Pursuant to 5 U.S.C. 553(b)(B), we have determined that good cause exists to forego the requirement to provide prior notice and an opportunity for public comment thereon for this rule as such procedures would be impracticable, unnecessary and contrary to the public interest. We are temporarily postponing for 60 days the effective date of this regulation pursuant to the previously-noted memorandum of the Chief of Staff. As a result, seeking public comment on this delay is unnecessary and contrary to the public interest. For these same reasons we find good cause to waive the 30-day delay in effective date provided for in 5 U.S.C. 553(d).

Authority: 16 U.S.C. 3124; 54 U.S.C. 100101, 100751, 320102; Sec. 13.1204 also issued under Sec. 1035, Public Law 104-333, 110 Stat. 4240.

Maureen D. Foster,
Acting Assistant Secretary for Fish and Wildlife and Parks.

[FR Doc. 2017-02890 Filed 2-10-17; 8:45 am]

BILLING CODE 4312-52-P